DEPARTMENT OF TRANSPORTATION

Federal Aviation Administration

14 CFR Part 97

[Docket No. 31374; Amdt. No. 3960]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective June 25, 2021. The compliance date for each SIAP, associated Takeoff Minimums, and ODP is specified in the amendatory provisions.

The incorporation by reference of certain publications listed in the regulations is approved by the Director of the Federal Register as of June 25, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on May 28, 2021.
Wade E.K. Terrell,
Aviation Safety, Flight Standards Service Manager (A), Flight Technologies and Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
15-Jul-21 | LA | Houma | Houma-Terrebonne | 0/5812 | 4/28/21 | RNAV (GPS) RWY 12, Orig.
15-Jul-21 | LA | Houma | Houma-Terrebonne | 0/5813 | 4/28/21 | RNAV (GPS) RWY 18, Orig-A.
15-Jul-21 | LA | Houma | Houma-Terrebonne | 0/5818 | 4/28/21 | RNAV (GPS) RWY 30, Orig.
15-Jul-21 | LA | Houma | Houma-Terrebonne | 0/5819 | 4/28/21 | RNAV (GPS) RWY 36, Orig-A.
15-Jul-21 | LA | Houma | Houma-Terrebonne | 0/5820 | 4/28/21 | VOR/DME RWY 30, Amdt 12A.
15-Jul-21 | LA | Bogalusa | George R Carr Meml Air Fld | 1/0004 | 4/23/21 | RNAV (GPS) RWY 18, Amdt 1C.
15-Jul-21 | LA | Bogalusa | George R Carr Meml Air Fld | 1/0008 | 4/23/21 | LOC RWY 18, Amdt 3B.
15-Jul-21 | LA | Bogalusa | George R Carr Meml Air Fld | 1/0010 | 4/23/21 | RNAV (GPS) RWY 36, Amdt 1B.
15-Jul-21 | TX | Brownwood | Brownwood Rgnl | 1/0013 | 4/7/21 | LOC RWY 17, Amdt 4B.
15-Jul-21 | CO | Meeker | Meeker Coulter Fld | 1/0015 | 4/16/21 | RNAV (GPS)-B, Orig-B.
15-Jul-21 | CO | Meeker | Meeker Coulter Fld | 1/0016 | 4/16/21 | VOR-A, Amdt 1A.
15-Jul-21 | AL | Alabaster | Shelby County | 1/0548 | 4/16/21 | RNAV (GPS) RWY 16, Amdt 1.
15-Jul-21 | AL | Alabaster | Shelby County | 1/0549 | 4/16/21 | RNAV (GPS) RWY 34, Amdt 2.
15-Jul-21 | TX | Brownwood | Brownwood Rgnl | 1/0578 | 4/7/21 | RNAV (GPS) RWY 17, Amdt 1A.
15-Jul-21 | TX | Brownwood | Brownwood Rgnl | 1/0591 | 4/7/21 | VOR RWY 35, Amdt 1C.
15-Jul-21 | TX | Lampasas | Lampasas | 1/0629 | 4/16/21 | RNAV (GPS) RWY 34, Orig-A.
15-Jul-21 | TX | Lampasas | Lampasas | 1/0631 | 4/16/21 | VOR-A, Amdt 4.
15-Jul-21 | LA | Slidell | Slidell | 1/0645 | 4/16/21 | RNAV (GPS) RWY 18, Orig-B.
15-Jul-21 | LA | Slidell | Slidell | 1/0646 | 4/16/21 | VOR/DME RWY 18, Amdt 4B.
15-Jul-21 | GA | Gainesville | Lee Gilmer Memorial | 1/0665 | 4/16/21 | ILS OR LOC RWY 5, Orig-B.
15-Jul-21 | GA | Gainesville | Lee Gilmer Memorial | 1/0666 | 4/16/21 | NDB RWY 5, Amdt 5C.
15-Jul-21 | GA | Gainesville | Lee Gilmer Memorial | 1/0667 | 4/16/21 | RNAV (GPS) RWY 23, Amdt 1A.
15-Jul-21 | GA | Gainesville | Lee Gilmer Memorial | 1/0668 | 4/16/21 | RNAV (GPS) RWY 5, Amdt 1A.
15-Jul-21 | CA | Eureka | Murray Fld | 1/0991 | 4/23/21 | RNAV (GPS)-B, Orig-A.
15-Jul-21 | TX | Palestine | Palestine Muni | 1/1090 | 5/14/21 | RNAV (GPS) RWY 18, Orig-B.
15-Jul-21 | TX | Palestine | Palestine Muni | 1/1091 | 5/14/21 | RNAV (GPS) RWY 36, Amdt 1B.
15-Jul-21 | AZ | Tucson | Tucson Intl | 1/1553 | 3/8/21 | RNAV (GPS) Z RWY 11L, Amdt 1C.
15-Jul-21 | AZ | Tucson | Tucson Intl | 1/1554 | 3/8/21 | RNAV (GPS) RWY 3, Amdt 1A.
15-Jul-21 | AZ | Tucson | Tucson Intl | 1/1555 | 3/8/21 | ILS OR LOC RWY 11L, Amdt 14C.
15-Jul-21 | AZ | Tucson | Tucson Intl | 1/1558 | 3/8/21 | VOR OR TACAN RWY 29R, Amdt 2F.
15-Jul-21 | AZ | Tucson | Tucson Intl | 1/1560 | 3/8/21 | VOR OR TACAN RWY 11L, Amdt 1B.
15-Jul-21 | AZ | Tucson | Tucson Intl | 1/1561 | 3/8/21 | RNAV (GPS) Z RWY 29R, Amdt 2E.
15-Jul-21 | AZ | Tucson | Tucson Intl | 1/1564 | 3/8/21 | RNAV (GPS) RWY 29L, Amdt 1A.
15-Jul-21 | AZ | Tucson | Tucson Intl | 1/1567 | 3/8/21 | RNAV (GPS) RWY 21, Orig-C.
15-Jul-21 | AZ | Tucson | Tucson Intl | 1/1568 | 3/8/21 | RNAV (GPS) RWY 11R, Orig-D.
15-Jul-21 | AZ | Tucson | Tucson Intl | 1/1569 | 3/8/21 | LOC BC RWY 29R, Amdt 8B.
15-Jul-21 | NY | Wurtsboro | Wurtsboro-Sullivan County | 1/1965 | 4/27/21 | VOR/DME OR GPS RWY 5, Orig.
15-Jul-21 | OK | Guymon | Guymon Muni | 1/2268 | 4/29/21 | RNAV (GPS) RWY 18, Amdt 1A.
15-Jul-21 | OK | Guymon | Guymon Muni | 1/2275 | 4/29/21 | RNAV (GPS) RWY 36, Orig-A.
15-Jul-21 | OR | Lexington | Lexington | 1/2299 | 4/7/21 | RNAV (GPS) RWY 8, Orig-A.
15-Jul-21 | OR | Lexington | Lexington | 1/2327 | 4/7/21 | RNAV (GPS)-A, Orig-A.
15-Jul-21 | IL | Chicago/Romeoville | Lewis University | 1/2746 | 5/14/21 | LOC RWY 2, Amdt 1A.
15-Jul-21 | IL | Chicago/Romeoville | Lewis University | 1/2748 | 5/14/21 | LOC/DME RWY 9, Amdt 1A.
15-Jul-21 | IL | Chicago/Romeoville | Lewis University | 1/2751 | 5/14/21 | RNAV (GPS) RWY 2, Amdt 2A.
15-Jul-21 | IL | Chicago/Romeoville | Lewis University | 1/2753 | 5/14/21 | RNAV (GPS) RWY 9, Orig.
15-Jul-21 | IL | Chicago/Romeoville | Lewis University | 1/2755 | 5/14/21 | RNAV (GPS) RWY 20, Amdt 1.
15-Jul-21 | IL | Chicago/Romeoville | Lewis University | 1/2758 | 5/14/21 | RNAV (GPS) RWY 27, Orig-A.
15-Jul-21 | MN | Litchfield | Litchfield Muni | 1/3125 | 4/23/21 | VOR-A, Amdt 2.
15-Jul-21 | MO | Mosby | Midwest Ntl Air Center | 1/3651 | 4/15/21 | ILS OR LOC/DME RWY 18, Orig-A.
15-Jul-21 | MO | Mosby | Midwest Ntl Air Center | 1/3652 | 4/15/21 | RNAV (GPS) RWY 18, Amdt 1.
15-Jul-21 | MO | Mosby | Midwest Ntl Air Center | 1/3653 | 4/15/21 | RNAV (GPS) RWY 36, Amdt 2.
15-Jul-21 | LA | Alexandria | Esler Rgnl | 1/3996 | 4/15/21 | RNAV (GPS) RWY 9, Amdt 2A.
15-Jul-21 | LA | Alexandria | Esler Rgnl | 1/3998 | 4/15/21 | RNAV (GPS) RWY 27, Amdt 2A.
15-Jul-21 | MO | St Louis | Creve Coeur | 1/4065 | 4/23/21 | RNAV (GPS) RWY 34, Amdt 1A.
15-Jul-21 | TX | Arlington | Arlington Muni | 1/4091 | 2/17/21 | VOR/DME RWY 34, Amdt 2.
15-Jul-21 | TX | Arlington | Arlington Muni | 1/4092 | 2/17/21 | RNAV (GPS) RWY 34, Amdt 3C.
15-Jul-21 | TX | Arlington | Arlington Muni | 1/4093 | 2/17/21 | ILS OR LOC/DME RWY 34, Amdt 2C.
15-Jul-21 | MI | Ironwood | Gogebic-Iron County | 1/4134 | 5/14/21 | ILS OR LOC RWY 27, Amdt 3B.
15-Jul-21 | MI | Ironwood | Gogebic-Iron County | 1/4135 | 5/14/21 | RNAV (GPS) RWY 9, Orig.
15-Jul-21 | TX | Houston | West Houston | 1/4138 | 4/16/21 | RNAV (GPS) RWY 33, Amdt 1B.
15-Jul-21 | TX | Houston | West Houston | 1/4139 | 4/16/21 | RNAV (GPS) RWY 15, Amdt 1C.
15-Jul-21 | OR | Mc Minnville | Mc Minnville Muni | 1/4140 | 5/4/21 | VOR/DME-B, Amdt 6.
15-Jul-21 | TX | Houston | Houston-Southwest | 1/4201 | 4/29/21 | RNAV (GPS) RWY 9, Amdt 2A.
15-Jul-21 | CA | Riverside/Rubidoux/ | Flabob | 1/4262 | 4/7/21 | RNAV (GPS)-A, Orig-A.
15-Jul-21 | FL | Orlando | Orlando Intl | 1/4385 | 5/21/21 | ILS OR LOC RWY 35R, ILS RWY 35R (SA CAT I), ILS RWY 35R (CAT II AND III), Amdt 5.
15-Jul-21 | FL | Orlando | Orlando Intl | 1/4386 | 5/21/21 | RNAV (GPS) RWY 35R, Amdt 2.
15-Jul-21 | MI | Ironwood | Gogebic-Iron County | 1/4387 | 5/14/21 | VOR RWY 9, Amdt 13A.
15-Jul-21 | FL | Lake City | Lake City Gateway | 1/4394 | 5/12/21 | RNAV (GPS) RWY 10, Orig-E.
15-Jul-21 | MS | Brookhaven | Brookhaven-Lincoln County | 1/4542 | 2/25/21 | RNAV (GPS) RWY 22, Orig-A.
15-Jul-21 | LA | Natchitoches | Natchitoches Rgnl | 1/4696 | 4/26/21 | LOC RWY 35, Amdt 4A.
15-Jul-21 | LA | Natchitoches | Natchitoches Rgnl | 1/4697 | 4/26/21 | NDB RWY 35, Amdt 6A.
15-Jul-21 | LA | Natchitoches | Natchitoches Rgnl | 1/4699 | 4/26/21 | RNAV (GPS) RWY 17, Amdt 1A.
15-Jul-21 | LA | Natchitoches | Natchitoches Rgnl | 1/4700 | 4/26/21 | RNAV (GPS) RWY 35, Amdt 1A.
15-Jul-21 | MN | Litchfield | Litchfield Muni | 1/4703 | 4/23/21 | RNAV (GPS) RWY 13, Orig.
15-Jul-21 | MN | Litchfield | Litchfield Muni | 1/4704 | 4/23/21 | RNAV (GPS) RWY 31, Orig.
15-Jul-21 | DE | Middletown | Summit | 1/4753 | 4/23/21 | NDB-A, Amdt 8B.
15-Jul-21 | NM | Grants | Grants-Milan Muni | 1/4821 | 2/24/21 | RNAV (GPS) RWY 31, Orig-A.
15-Jul-21 | OH | Portsmouth | Greater Portsmouth Rgnl | 1/5239 | 4/15/21 | RNAV (GPS) RWY 36, Orig.
15-Jul-21 | OH | Portsmouth | Greater Portsmouth Rgnl | 1/5241 | 4/15/21 | RNAV (GPS) RWY 18, Orig.
15-Jul-21 | IA | Mason City | Mason City Muni | 1/5286 | 4/27/21 | LOC BC RWY 18, Amdt 7C.
15-Jul-21 | IA | Mason City | Mason City Muni | 1/5287 | 4/27/21 | RNAV (GPS) RWY 18, Amdt 2B.
15-Jul-21 | IA | Mason City | Mason City Muni | 1/5288 | 4/27/21 | RNAV (GPS) RWY 30, Amdt 1C.
15-Jul-21 | IA | Mason City | Mason City Muni | 1/5289 | 4/27/21 | RNAV (GPS) RWY 36, Amdt 1C.
15-Jul-21 | IA | Mason City | Mason City Muni | 1/5290 | 4/27/21 | VOR RWY 36, Amdt 6F.
15-Jul-21 | FL | Marco Island | Marco Island Exec | 1/5291 | 4/27/21 | RNAV (GPS) RWY 17, Orig-A.
15-Jul-21 | FL | Marco Island | Marco Island Exec | 1/5292 | 4/27/21 | RNAV (GPS) RWY 35, Orig-B.
15-Jul-21 | OR | Mc Minnville | Mc Minnville Muni | 1/5308 | 5/4/21 | ILS OR LOC RWY 22, Amdt 4.
15-Jul-21 | IL | Monee | Bult Fld | 1/5319 | 2/22/21 | RNAV (GPS) RWY 27, Orig-A.
15-Jul-21 | IL | Monee | Bult Fld | 1/5326 | 2/22/21 | RNAV (GPS) RWY 9, Orig-A.
15-Jul-21 | OK | Blackwell | Blackwell-Tonkawa Muni | 1/5389 | 5/20/21 | VOR-A, Amdt 4.
15-Jul-21 | OH | Galion | Galion Muni | 1/5499 | 4/23/21 | RNAV (GPS) RWY 23, Orig-B.
15-Jul-21 | OH | Galion | Galion Muni | 1/5506 | 4/23/21 | VOR RWY 23, Amdt 13B.
15-Jul-21 | MI | Ann Arbor | Ann Arbor Muni | 1/5606 | 2/25/21 | VOR RWY 6, Amdt 13E.
15-Jul-21 | MI | Ann Arbor | Ann Arbor Muni | 1/5607 | 2/25/21 | VOR RWY 24, Amdt 13F.
15-Jul-21 | GA | Brunswick | Brunswick Golden Isles | 1/5742 | 4/7/21 | RNAV (GPS) RWY 25, Amdt 1B.
15-Jul-21 | GA | Brunswick | Brunswick Golden Isles | 1/5743 | 4/7/21 | RNAV (GPS) RWY 7, Amdt 1B.
15-Jul-21 | GA | Brunswick | Brunswick Golden Isles | 1/5744 | 4/7/21 | ILS OR LOC RWY 7, Amdt 10A.
15-Jul-21 | GA | Brunswick | Brunswick Golden Isles | 1/5745 | 4/7/21 | VOR/DME-B, Amdt 9.
15-Jul-21 | IA | Denison | Denison Muni | 1/5754 | 4/7/21 | RNAV (GPS) RWY 12, Amdt 1B.
15-Jul-21 | IA | Denison | Denison Muni | 1/5756 | 4/7/21 | RNAV (GPS) RWY 30, Amdt 1B.
15-Jul-21 | KS | Hugoton | Hugoton Muni | 1/5928 | 4/23/21 | NDB RWY 2, Amdt 3.
15-Jul-21 | CA | Fullerton | Fullerton Muni | 1/5962 | 4/27/21 | LOC/DME RWY 24, Orig-B.
15-Jul-21 | CA | Fullerton | Fullerton Muni | 1/5964 | 4/27/21 | VOR-A, Amdt 7B.
15-Jul-21 | NJ | Linden | Linden | 1/6336 | 4/28/21 | GPS-A, Orig-B.
15-Jul-21 | OR | Scappoose | Scappoose Industrial Airpark | 1/6344 | 4/28/21 | VOR/DME-A, Amdt 3A.
15-Jul-21 | OR | Scappoose | Scappoose Industrial Airpark | 1/6345 | 4/28/21 | RNAV (GPS) RWY 15, Orig-A.
15-Jul-21 | OK | Sallisaw | Sallisaw Muni | 1/6389 | 4/15/21 | RNAV (GPS) RWY 35, Orig-A.
15-Jul-21 | NY | Niagara Falls | Niagara Falls Intl | 1/6397 | 4/14/21 | TACAN RWY 28R, Orig-A.
15-Jul-21 | TX | Hondo | South Texas Rgnl At Hondo | 1/6401 | 4/15/21 | RNAV (GPS) RWY 17L, Amdt 1A.
15-Jul-21 | TX | Hondo | South Texas Rgnl At Hondo | 1/6402 | 4/15/21 | RNAV (GPS) RWY 35R, Orig-A.
15-Jul-21 | MN | Caledonia | Houston County | 1/6406 | 4/15/21 | VOR/DME OR GPS-A, Amdt 3A.
15-Jul-21 | AR | Crossett | Z M Jack Stell Field | 1/6415 | 4/16/21 | RNAV (GPS) RWY 23, Orig-B.
15-Jul-21 | MI | Ironwood | Gogebic-Iron County | 1/6486 | 5/14/21 | RNAV (GPS) RWY 27, Orig.
15-Jul-21 | NJ | Readington | Solberg-Hunterdon | 1/6729 | 4/28/21 | VOR RWY 4, Amdt 1C.
15-Jul-21 | NJ | Readington | Solberg-Hunterdon | 1/6730 | 4/28/21 | RNAV (GPS) RWY 22, Orig-C.
15-Jul-21 | NJ | Readington | Solberg-Hunterdon | 1/6731 | 4/28/21 | RNAV (GPS) RWY 4, Orig-C.
15-Jul-21 | TX | Muleshoe | Muleshoe Muni | 1/6761 | 5/21/21 | RNAV (GPS)-B, Orig.
15-Jul-21 | IN | Logansport | Logansport/Cass County | 1/6849 | 3/9/21 | RNAV (GPS) RWY 9, Amdt 1A.
15-Jul-21 | IN | Logansport | Logansport/Cass County | 1/6850 | 3/9/21 | RNAV (GPS) RWY 27, Amdt 1A.
15-Jul-21 | IN | Logansport | Logansport/Cass County | 1/6851 | 3/9/21 | VOR-A, Amdt 7A.
15-Jul-21 | ID | Coeur D'Alene | Coeur D'Alene—Pappy Boyington Fld | 1/7410 | 2/25/21 | ILS OR LOC/DME RWY 6, Amdt 5E.
15-Jul-21 | ID | Coeur D'Alene | Coeur D'Alene—Pappy Boyington Fld | 1/7411 | 2/25/21 | RNAV (GPS) RWY 6, Orig-D.
15-Jul-21 | LA | Opelousas | St Landry Parish-Ahart Fld | 1/7454 | 5/14/21 | RNAV (GPS) RWY 18, Amdt 1A.
15-Jul-21 | LA | Opelousas | St Landry Parish-Ahart Fld | 1/7455 | 5/14/21 | RNAV (GPS) RWY 36, Amdt 1A.
15-Jul-21 | LA | Opelousas | St Landry Parish-Ahart Fld | 1/7456 | 5/14/21 | VOR RWY 36, Amdt 1B.
15-Jul-21 | NY | Schenectady | Schenectady County | 1/7464 | 4/29/21 | ILS OR LOC RWY 4, Amdt 5E.
15-Jul-21 | NY | Schenectady | Schenectady County | 1/7465 | 4/29/21 | NDB RWY 22, Amdt 16C.
15-Jul-21 | NY | Schenectady | Schenectady County | 1/7466 | 4/29/21 | RNAV (GPS) RWY 10, Orig-E.
15-Jul-21 | NY | Schenectady | Schenectady County | 1/7467 | 4/29/21 | RNAV (GPS) RWY 22, Orig-C.
15-Jul-21 | NY | Schenectady | Schenectady County | 1/7468 | 4/29/21 | RNAV (GPS) RWY 28, Orig-E.
15-Jul-21 | LA | Alexandria | Esler Rgnl | 1/7528 | 4/15/21 | ILS OR LOC/DME RWY 27, Amdt 16A.
15-Jul-21 | AR | Almyra | Almyra Muni | 1/7619 | 4/16/21 | RNAV (GPS) RWY 36, Amdt 1A.
15-Jul-21 | OK | Guymon | Guymon Muni | 1/7632 | 4/29/21 | NDB RWY 18, Amdt 5C.
15-Jul-21 | LA | Bogalusa | George R Carr Meml Air Fld | 1/7634 | 4/23/21 | VOR/DME-A, Amdt 4.
15-Jul-21 | PA | Shamokin | Northumberland County | 1/7652 | 4/16/21 | VOR RWY 8, Amdt 3E.
15-Jul-21 | MN | Little Falls | Little Falls/Morrison County-Lindbergh Fld | 1/7809 | 5/14/21 | RNAV (GPS) RWY 31, Orig-C.
15-Jul-21 | FL | Lake City | Lake City Gateway | 1/7904 | 5/12/21 | NDB RWY 28, Amdt 2A.
15-Jul-21 | FL | Lake City | Lake City Gateway | 1/7907 | 5/12/21 | RNAV (GPS) RWY 28, Amdt 1B.
15-Jul-21 | CA | Jackson | Westover Fld Amador County | 1/8212 | 5/12/21 | VOR/DME RWY 1, Amdt 1C.
15-Jul-21 | NY | Fishers Island | Elizabeth Fld | 1/8290 | 4/16/21 | VOR OR GPS-A, Amdt 6A.
15-Jul-21 | MN | Windom | Windom Muni | 1/8307 | 5/12/21 | RNAV (GPS) RWY 17, Amdt 1A.
15-Jul-21 | MN | Windom | Windom Muni | 1/8308 | 5/12/21 | RNAV (GPS) RWY 35, Amdt 1A.
15-Jul-21 | NE | Columbus | Columbus Muni | 1/8330 | 4/29/21 | VOR RWY 32, Amdt 14D.
15-Jul-21 | NE | Columbus | Columbus Muni | 1/8332 | 4/29/21 | RNAV (GPS) RWY 32, Orig-C.
15-Jul-21 | NE | Columbus | Columbus Muni | 1/8334 | 4/29/21 | LOC/DME RWY 14, Amdt 8D.
15-Jul-21 | NE | Columbus | Columbus Muni | 1/8336 | 4/29/21 | VOR RWY 14, Amdt 14E.
15-Jul-21 | NE | Columbus | Columbus Muni | 1/8338 | 4/29/21 | RNAV (GPS) RWY 14, Orig-D.
15-Jul-21 | CA | California City | California City Muni | 1/8386 | 4/16/21 | RNAV (GPS) RWY 24, Orig-B.
15-Jul-21 | WA | Ellensburg | Bowers Fld | 1/8408 | 4/16/21 | RNAV (GPS)-C, Orig-C.
15-Jul-21 | WA | Ellensburg | Bowers Fld | 1/8409 | 4/16/21 | VOR-A, Amdt 3B.
15-Jul-21 | PA | Clarion | Clarion County | 1/8480 | 4/15/21 | RNAV (GPS) RWY 6, Amdt 1B.
15-Jul-21 | PA | Clarion | Clarion County | 1/8482 | 4/15/21 | RNAV (GPS) RWY 24, Amdt 1C.
15-Jul-21 | CT | Willimantic | Windham | 1/8767 | 4/15/21 | RNAV (GPS) RWY 9, Amdt 1B.
15-Jul-21 | CT | Willimantic | Windham | 1/8768 | 4/15/21 | RNAV (GPS) RWY 27, Amdt 1B.
15-Jul-21 | CT | Willimantic | Windham | 1/8769 | 4/15/21 | VOR-A, Amdt 9A.
15-Jul-21 | SC | Greenville | Donaldson Fld | 1/8776 | 4/14/21 | RNAV (GPS) RWY 23, Orig-A.
15-Jul-21 | SC | Greenville | Donaldson Fld | 1/8778 | 4/14/21 | RNAV (GPS) RWY 5, Orig-A.
15-Jul-21 | SC | Greenville | Donaldson Fld | 1/8781 | 4/14/21 | ILS OR LOC RWY 5, Amdt 5A.
15-Jul-21 | TX | Huntsville | Huntsville Muni | 1/9173 | 4/15/21 | NDB RWY 18, Amdt 1.
15-Jul-21 | TX | Huntsville | Huntsville Muni | 1/9174 | 4/15/21 | VOR/DME-A, Amdt 6.
15-Jul-21 | TX | Huntsville | Huntsville Muni | 1/9175 | 4/15/21 | RNAV (GPS) RWY 18, Orig-A.
15-Jul-21 | OH | Galion | Galion Muni | 1/9406 | 4/23/21 | RNAV (GPS) RWY 5, Orig-B.
15-Jul-21 | MI | Adrian | Lenawee County | 1/9545 | 4/16/21 | RNAV (GPS) RWY 23, Orig-A.
15-Jul-21 | MT | Glasgow | Wokal Fld/Glasgow-Valley County | 1/9547 | 4/16/21 | VOR RWY 12, Amdt 3B.
15-Jul-21 | MT | Glasgow | Wokal Fld/Glasgow-Valley County | 1/9548 | 4/16/21 | RNAV (GPS) RWY 30, Orig-B.
15-Jul-21 | MT | Glasgow | Wokal Fld/Glasgow-Valley County | 1/9549 | 4/16/21 | RNAV (GPS) RWY 12, Orig-B.
15-Jul-21 | MT | Glasgow | Wokal Fld/Glasgow-Valley County | 1/9550 | 4/16/21 | VOR RWY 30, Amdt 4B.
15-Jul-21 | VA | Warrenton | Warrenton-Fauquier | 1/9559 | 4/16/21 | LOC/DME RWY 15, Orig-A.
15-Jul-21 | VA | Warrenton | Warrenton-Fauquier | 1/9560 | 4/16/21 | RNAV (GPS) RWY 15, Amdt 1A.
15-Jul-21 | VA | Warrenton | Warrenton-Fauquier | 1/9561 | 4/16/21 | VOR RWY 15, Amdt 4C.
15-Jul-21 | WY | Laramie | Laramie Rgnl | 1/9576 | 4/16/21 | VOR/DME RWY 30, Amdt 7A.
15-Jul-21 | WY | Laramie | Laramie Rgnl | 1/9581 | 4/16/21 | VOR/DME RWY 12, Amdt 6A.
15-Jul-21 | WY | Laramie | Laramie Rgnl | 1/9582 | 4/16/21 | RNAV (GPS) RWY 30, Orig.
15-Jul-21 | WY | Laramie | Laramie Rgnl | 1/9589 | 4/16/21 | RNAV (GPS) RWY 21, Orig-A.
15-Jul-21 | WY | Laramie | Laramie Rgnl | 1/9590 | 4/16/21 | RNAV (GPS) RWY 12, Orig.
15-Jul-21 | WY | Laramie | Laramie Rgnl | 1/9591 | 4/16/21 | RNAV (GPS) RWY 3, Orig-A.
15-Jul-21 | VA | Warrenton | Warrenton-Fauquier | 1/9602 | 4/16/21 | RNAV (GPS) RWY 33, Orig-A.
15-Jul-21 | SC | Lancaster | Lancaster County-Mc Whirter Fld | 1/9606 | 4/16/21 | RNAV (GPS) RWY 24, Amdt 1A.
15-Jul-21 | SC | Lancaster | Lancaster County-Mc Whirter Fld | 1/9607 | 4/16/21 | RNAV (GPS) RWY 6, Amdt 1.
15-Jul-21 | MN | Marshall | Southwest Minnesota Rgnl Marshall/Ryan Fld | 1/9866 | 5/12/21 | VOR RWY 12, Amdt 8B.
15-Jul-21 | MN | Marshall | Southwest Minnesota Rgnl Marshall/Ryan Fld | 1/9868 | 5/12/21 | ILS OR LOC RWY 12, Amdt 2A.
15-Jul-21 | MN | Marshall | Southwest Minnesota Rgnl Marshall/Ryan Fld | 1/9869 | 5/12/21 | RNAV (GPS) RWY 12, Amdt 1B.
15-Jul-21 | FL | Key West | Key West Intl | 1/9874 | 5/7/21 | RNAV (GPS) RWY 27, Orig-B.
15-Jul-21 | FL | Key West | Key West Intl | 1/9875 | 5/7/21 | RNAV (GPS) RWY 9, Amdt 1.
15-Jul-21 | FL | Key West | Key West Intl | 1/9876 | 5/7/21 | NDB-A, Amdt 15C

[FR Doc. 2021-13470 Filed 6-24-21; 8:45 am]

BILLING CODE 4910-13-P